ENVIRONMENTAL PROTECTION AGENCY

[EPA-HQ-OPPT-2017-0319; FRL-9981-80-OEI]

Information Collection Request Submitted to OMB for Review and Approval; Comment Request; Asbestos-Containing Materials in Schools and Revised Asbestos Model Accreditation Plans (Renewal)

AGENCY: Environmental Protection Agency (EPA).

ACTION: Notice.

SUMMARY: The Environmental Protection Agency (EPA) has submitted the following information collection request (ICR) to the Office of Management and Budget (OMB) for review and approval in accordance with the Paperwork Reduction Act (PRA): Asbestos-Containing Materials in Schools and Revised Asbestos Model Accreditation Plans (EPA ICR No. 1365.11, OMB Control No. 2070-0091). This is a request to renew the approval of an existing ICR, which is currently approved through August 31, 2018. EPA received six comments in response to the previously provided public review opportunity issued in the Federal Register of January 2, 2018, which have been addressed in the ICR that is being submitted to OMB, a copy of which is available in the docket. With this submission to OMB, EPA is providing an additional 30 days for public review and comment.

DATES: Comments must be received on or before September 24, 2018.

ADDRESSES: Submit your comments, identified by Docket ID Number EPA-HQ-OPPT-2017-0319, to both EPA and OMB as follows:

• To EPA online using http://www.regulations.gov (our preferred method) or by mail to: EPA Docket Center, Environmental Protection Agency, Mail Code 28221T, 1200 Pennsylvania Ave. NW, Washington, DC 20460, and

• To OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Brandon Mullings, Environmental Assistance Division, 7408M, Environmental Protection Agency, 1200 Pennsylvania Ave. NW, Washington, DC 20460; telephone number: (202) 564-4826; email address: mullings.brandon@epa.gov.

SUPPLEMENTARY INFORMATION:

Docket: Supporting documents, including the ICR that explains in detail the information collection activities and the related burden and cost estimates that are summarized in this document, are available in the docket for this ICR. The docket can be viewed online at http://www.regulations.gov or in person at the EPA Docket Center, West William Jefferson Clinton Bldg., Rm. 3334, 1301 Constitution Ave. NW, Washington, DC. The telephone number for the Docket Center is (202) 566-1744. For additional information about EPA's public docket, visit http://www.epa.gov/dockets.

ICR status: This ICR is currently scheduled to expire on August 31, 2018. Under OMB regulations, an agency may continue to conduct or sponsor the collection of information while this submission is pending at OMB. Under the PRA, 44 U.S.C. 3501 et seq., an agency may not conduct or sponsor, and a person is not required to respond to, a collection of information unless it displays a currently valid OMB control number. The OMB control numbers are displayed either by publication in the Federal Register or by other appropriate means, such as on the related collection instrument or form, if applicable. The display of OMB control numbers for certain EPA regulations is consolidated in 40 CFR part 9.

Abstract: The Asbestos Hazard Emergency Response Act (AHERA) requires local education agencies (LEAs) to conduct inspections, develop management plans, and design or conduct response actions with respect to the presence of asbestos-containing materials in school buildings. AHERA also requires states to develop model accreditation plans for persons who perform asbestos inspections, develop management control plans, and design or conduct response actions. This information collection addresses the burden associated with recordkeeping requirements imposed on LEAs by the asbestos in schools rule, and reporting and recordkeeping requirements imposed on states and training providers related to the model accreditation plan rule.

Responses to the collection of information are mandatory (see 40 CFR parts 763, Subpart E). Respondents may claim all or part of a document confidential. EPA will disclose information that is covered by a claim of confidentiality only to the extent permitted by, and in accordance with, the procedures in TSCA section 14 and 40 CFR part 2.

Form Numbers: None.

Respondents/affected entities: Local education agencies (LEAs, e.g., elementary or secondary public school districts or a private school or school system); asbestos training providers to schools and educational systems; state education departments or commissions; or state public health departments or commissions.

Respondent's obligation to respond: Mandatory (40 CFR part 763, Sub part E).

Estimated number of respondents: 133,214 (total).

Frequency of response: On occasion.

Total estimated burden: 2,554,913 hours (per year). Burden is defined at 5 CFR 1320.03(b)

Total estimated cost: $97,276,877 (per year), which includes $0 annualized capital or operation & maintenance costs.

Changes in the Estimates: There is an increase of 67,509 hours in the total estimated respondent burden compared with the ICR currently approved by OMB. This increase reflects a change in the methodology to calculate the number of schools with friable asbestos-containing materials (ACM); a revision to the life span of schools using average functional age to determine the remaining life of school buildings; and a change in the rate of removal of friable ACM. This change is an adjustment, and is discussed in more detail in the ICR Supporting Statement.

Courtney Kerwin,
Director, Collection Strategies Division.

[FR Doc. 2018-18341 Filed 8-23-18; 8:45 am]

BILLING CODE 6560-50-P